DEPARTMENT OF THE INTERIOR

Bureau of Land Management

[17X.LLAK942000.L54200000.FR0000.LVDIL0440000; AA086373]

Notice of Application for a Recordable Disclaimer of Interest for Lands Underlying the George River in Alaska

AGENCY: Bureau of Land Management, Interior.

ACTION: Notice.

SUMMARY: The State of Alaska (State) has filed an application with the Bureau of Land Management (BLM) for a Recordable Disclaimer of Interest (RDI) from the United States in those lands underlying the George River from its mouth to Julian Creek. The State asserts that the George River, a major tributary of the Kuskokwim River in southwestern Alaska, was navigable and unreserved at the time of Alaska Statehood in 1959.

DATES: Comments on this action are due on or before September 5, 2017.

ADDRESSES: You may submit comments on the State of Alaska's Application for an RDI or the BLM Draft Summary Report for the State's Application for a Recordable Disclaimer of Interest by mail or email. To file by mail, send to: RDI Program Manager (AK-942), Division of Lands and Cadastral, BLM Alaska State Office, 222 West 7th Avenue, #13, Anchorage, AK 99513. To submit by email, send to: anichols@blm.gov.

FOR FURTHER INFORMATION CONTACT: Angie Nichols, RDI Program Manager, at 222 West 7th Avenue, #13, Anchorage, AK 99513; 907-271-3359; or anichols@blm.gov; or visit the BLM Recordable Disclaimer of Interest Web site at https://www.blm.gov/programs/lands-and-realty/regional-information/alaska/RDI/kuskokwim. Persons who use a telecommunications device for the deaf (TDD) may call the Federal Relay System (FRS) at 1-800-877-8339 to contact the individual identified in this section during normal business hours. The FRS is available 24 hours a day, seven days a week, to leave a message or a question with that individual. You will receive a reply during normal business hours.

SUPPLEMENTARY INFORMATION: On March 10, 2006, as modified on September 16, 2015, the State of Alaska filed an application (AA-86373) for an RDI pursuant to section 315 of the Federal Land Policy and Management Act of 1976 and the regulations contained in 43 CFR subpart 1864 for the lands underlying the George River. The State asserts that this river was navigable at the time of Alaska Statehood. As such, the State contends that ownership of the lands underlying this river automatically passed from the United States to the State of Alaska in 1959 at the time of Statehood under the Equal Footing Doctrine; the Submerged Lands Act of 1953; the Alaska Statehood Act; and other title navigability law.

The State's application is for all submerged lands underlying the portion of the George River from its mouth to Julian Creek. Specifically, these are the submerged lands within the bed of the George River between the ordinary high water mark of the left and right banks, beginning at the confluence of Julian Creek in Township 24 North, Range 44 West, Section 4, Seward Meridian, Alaska, U.S. Geological Survey (USGS) 1:63,360 series topographic map Iditarod A-3 (1954). Thence southerly to its confluence with the Kuskokwim River in Township 21 North, Range 46 West, Section 21, Seward Meridian, Alaska, USGS 1:63,360 series topographic map Sleetmute D-5 (1954, minor revisions 1975). The applied section of the George River flows through the following Townships and Ranges:

Seward Meridian:

Township 24 North, Ranges 44-45 West;

Township 23 North, Ranges 45-46 West;

Township 22 North, Ranges 45-46 West;

Township 21 North, Range 46 West.

The precise location may be within other townships due to the ambulatory nature of these water bodies.

An RDI is a legal document through which the United States disavows ownership of specified land, but it does not grant, convey, transfer, or renounce any title or interest in the lands, nor does it release any tax, judgment, or lien. This Notice of Application is intended to inform the public of the pending application and the State's supporting evidence.

A final decision on the merits of the State's application will not be made before September 5, 2017. During the 90-day period, interested parties may comment on the State's application, AA-086373, and supporting evidence. This supporting evidence from the State includes three navigability reports prepared by the BLM on May 6, 1980; November 8, 1984; and July 8, 1985. The State's application also included an extract of the “Regional Report” for the Kuskokwim River Region prepared by the BLM in 1985. In addition, the application contained three maps based upon the USGS 1:63,360 topographic maps with water body data extracted from the USGS National Hydrography Dataset—2004, detailing the river from its mouth to its source.

On August 25, 1982, the BLM determined the George River is navigable through Georgetown Native Corporation's selected lands, situated along the lower 22 miles of the river. BLM extended its navigability determination an additional 19 miles upriver to Julian Creek on November 8, 1984. Subsequent navigability opinions in 1985, 1988, and 2004 affirmed that the lower 41 miles of the river are navigable up to Julian Creek.

Interested parties may also comment during this time on the BLM's Draft Summary Report for the State's Application for a Recordable Disclaimer of Interest, which is available on the RDI Web site (see FOR FURTHER INFORMATION CONTACT).

Copies of the State application, supporting evidence, the BLM Draft Summary Report, and comments, including names and street addresses of commenters, will be available in the case file for public review at the BLM Alaska State Office, Public Room, 222 West 7th Avenue, #13, Anchorage, AK 99513, during regular business hours from 7:30 a.m. to 4:30 p.m., Monday through Friday, except holidays. Before including your address, phone number, email address, or other personal identifying information in your comment, you should be aware that your entire comment

—including your personal identifying information—may be made publicly available at any time. While you can ask the BLM in your comment to withhold your personal identifying information from public review, we cannot guarantee that we will be able to do so. If the BLM determines the State's evidence is sufficient to find a favorable determination and neither the records nor a valid objection disclose a reason not to disclaim, then the BLM may decide to approve the application.

Authority: 43 CFR 1864.3.

Erika L. Reed,
Deputy State Director, Division of Lands and Cadastral.

[FR Doc. 2017-11531 Filed 6-2-17; 8:45 am]

BILLING CODE 4310-JA-P